DEPARTMENT OF DEFENSE

Office of the Secretary

[Docket ID: DOD-2010-OS-0079]

Privacy Act of 1974; System of Records

AGENCY: Defense Intelligence Agency, DoD.

ACTION: Notice to add a system of records.

SUMMARY: The Defense Intelligence Agency proposes to add a system of records to its inventory of record systems subject to the Privacy Act of 1974, (5 U.S.C. 552a), as amended.

DATES: This proposed action will be effective without further notice on July 15, 2010, unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at (202) 231-1193.

SUPPLEMENTARY INFORMATION: The Defense Intelligence Agency systems of records notices subject to the Privacy Act of 1974, (5 U.S.C. 552a), as amended, have been published in the Federal Register and are available from the DIA Privacy Act Coordinator, DAN 1-C, 200 MacDill Blvd, Washington, DC 20340.

The proposed systems report, as required by 5 U.S.C. 552a(r) of the Privacy Act of 1974, as amended, was submitted on June 1, 2010, to the House Committee on of Government Reform, the Senate Committee on Homeland Security and Government Affairs, and the Office of Management and Budget (OMB) pursuant to paragraph 4c of Appendix I to OMB Circular No A-130, “Federal Agency Responsibilities for Maintaining Records About Individuals” dated February 8, 1996 (February 20, 1996; 61 FR 6427).

Dated: June 9, 2010.
Mitchell S. Bryman,
Alternate OSD Federal Register Liaison Officer, Department of Defense.

LDIA 10-0002

System name:

Foreign Intelligence and Counterintelligence Operation Records.

System location:

Defense Intelligence Agency, 200 MacDill Blvd, Washington, DC 20340-5001.

Categories of individuals covered by the system:

Individuals involved in, or of interest to, DoD intelligence, counterintelligence, counterterrorism and counter-narcotic operations or analytical projects as well as individuals involved in foreign intelligence and/or training activities.

Categories of records in the system:

All categories of records may include identifying information such as name, Social Security Number (SSN), address, citizenship documentation, biometric data, passport number, vehicle identification number and vehicle/vessel license data. Records relating to the management and coordination of DoD counterintelligence systems and activities. Records relating to analytical, operational, biographic, policy, management, training, administrative matters and operational support related to DoD counterintelligence, force protection, critical infrastructure protection, research and technology protection, threat analysis, counter-narcotics and risk assessments. Records relating to the architecture and operation of DoD counterintelligence information systems. Reports of investigation, collection, statements of individuals, affidavits, correspondence, and other documentation pertaining to investigative or analytical efforts by DoD and other U.S. government agencies to identify or counter foreign intelligence and terrorist threats to the DoD and the United States. The system of records includes ad hoc or temporary databases established to support particular investigations, task forces, or analytical projects.

Authority for maintenance of the system:

National Security Act of 1947; Executive Order 12333, United States Intelligence Activities; 50 U.S.C. 401, The Foreign Intelligence Surveillance Act of 1978; Directive Type Memo (DTM) 08-032, Establishment of the Defense Counter Intelligence and Human Intelligence Center; DoD Directive 5240.1, United States Intelligence Activities; and E.O. 9397 (SSN), as amended.

Purpose(s):

To document intelligence, counterintelligence, counterterrorism and counter-narcotic operations relating to the protection of national security, DoD personnel, facilities and equipment, to include information systems.

Routine uses of records maintained in the system, including categories of users and the purposes of such uses:

In addition to those disclosures generally permitted under 5 U.S.C. 552a(b) of the Privacy Act of 1974 records contained therein may specifically be disclosed outside the Department of Defense (DoD) as a routine use pursuant to 5 U.S.C. 552a(b)(3) as follows:

To Federal, State, local, and tribal agencies for the purpose of law enforcement, counterterrorism, counterintelligence, counter-narcotic activities and homeland security as authorized by U.S. Law or Executive Order, or for the purpose of protecting the territory, people and interests of the United States of America against breaches of security related to DoD controlled information or facilities and against terrorist activities.

The DoD `Blanket Routine Uses' set forth at the beginning of the DIA's compilation of systems of records notices apply to this system.

Policies and practices for storing, retrieving, accessing, retaining, and disposing of records in the system:

Storage:

Paper and electronic storage media.

Retrievability:

Name, Social Security Number (SSN), citizenship documentation, biometric data, passport number, vehicle/vessel license data and records.

Safeguards:

Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access are limited to persons responsible for servicing and authorized to use the system.

Retention and disposal:

Production Records: Temporary—Cutoff annually; hold 2 years; transfer to the Washington National Records Center (WNRC); destroy when records are 10 years old.

Intelligence Reports: Permanent—Cutoff annually, hold 3 years, transfer to WNRC. Retire to the National Archives when 35-40 years old.

Intelligence Products: Permanent—Cutoff annually, hold 3 years, transfer to WNRC. Retire to the National Archives when 35-40 years old.

Intelligence Collection Records: Temporary—Cutoff annually and destroy.

Intelligence Data Base Records: Temporary—Destroy when no longer needed for current operations.

Paper records are destroyed by shredding, pulping, or burning; electronic records are erased from the data base.

System manager(s) and address:

Deputy Director for the Defense Counterintelligence and Human Intelligence Center, 200 MacDill Blvd., Washington, DC 20340-5001.

Notification procedure:

Individuals seeking to determine whether information about themselves is contained in this system of records should address written inquiries to the DIA Freedom of Information Act Office (DAN-1A), Defense Intelligence Agency, 200 MacDill Blvd., Washington, DC 20340-5100.

Request should contain the individual's full name, current address, telephone number and Social Security Number (SSN).

Record access procedure:

Individuals seeking access to information about themselves contained in this system of records should address written inquiries to the DIA Freedom of Information Act Office, Defense Intelligence Agency (DAN-1A), 200 MacDill Blvd., Washington, DC 20340-5100.

Request should contain the individual's full name, current address, telephone number and Social Security Number (SSN).

Contesting record procedure:

DIA's rules for accessing records, for contesting contents and appealing initial agency determinations are published in DIA Instruction 5400.001 “Defense Intelligence Agency Privacy Program”; or may be obtained from the system manager.

Record source categories:

Federal, state, local, and tribal entities, foreign intelligence agencies, educational and research institutions, foreign governments and open source literature.

Exemptions claimed for the system:

Investigatory material compiled for law enforcement purposes, other than material within the scope of subsection 5 U.S.C. 552a(j)(2), may be exempt pursuant to 5 U.S.C. 552(k)(2). However, if an individual is denied any right, privilege, or benefit for which he would otherwise be entitled by Federal law or which he would otherwise be eligible, as a result of maintenance of the information, the individual will be provided access to the information except to the extent that disclosure would reveal the identity of a confidential source. This exemption provides limited protection of investigative reports maintained in a system of records used in personnel or administrative actions.

An exemption rule for this system has been promulgated in accordance with the requirements of 5 U.S.C. 553(b)(1), (2), and (3), (c) and (e) and published in 32 CFR part 319.

[FR Doc. 2010-14254 Filed 6-14-10; 8:45 am]

BILLING CODE 5001-06-P